DEPARTMENT OF TRANSPORTATION

Pipeline and Hazardous Materials Safety Administration

[Docket ID PHMSA-2011-0125]

Pipeline Safety: Notice of Public Meetings on Managing Challenges With Pipeline Seam Welds and Improving Pipeline Risk Assessments and Recordkeeping

AGENCY: Pipeline and Hazardous Materials Safety Administration (PHMSA), DOT.

ACTION: Notice of public meetings.

SUMMARY: Recent pipeline incidents involving seam weld anomalies and gaps in data and recordkeeping are driving a stronger focus on better managing these challenges. PHMSA is holding important public meetings to discuss its review of inspection reporting and incident findings in these areas. In addition, these public meetings are part of PHMSA's efforts to address the Secretary of Transportation's “Call to Action” to address pipeline infrastructure risks, drive for more aggressive safety efforts and to be more transparent when executing these safety measures.

These public meetings are designed to provide an open forum for exchanging information on the challenges associated with pipeline seam welds and improving pipeline risk assessments and recordkeeping. Specifically, these public meetings will facilitate individual, panel and working group discussions for the following objectives:

Managing Challenges With Pipeline Seam Welds—July 20

1. Further determining the nature and extent of the seam weld issue from industry and government data.

2. Presenting perspectives on how anomalies in seam welds are identified and managed employing risk assessments, technology and standards or best practices.

3. Presenting the scope of a recently awarded PHMSA research study on seam welds.

4. Providing specifically designed working groups to further craft the scope for this PHMSA research study and other related topics.

Improving Pipeline Risk Assessments and Recordkeeping—July 21

1. Provide a U.S. and International regulatory perspective on pipeline integrity risk assessments.

2. Provide an operator overview of the challenging factors with conducting risk assessments, canvassing effective approaches, and case studies.

3. Identify options with addressing interactive threats, legacy pipelines and approaches for dealing with recordkeeping gaps.

DATES: The public meeting on managing challenges with pipeline seam welds will be held on Wednesday, July 20, 2011, from 8 a.m. to 4 p.m. EDT. The public meeting on improving pipeline risk assessments and recordkeeping will be held on Thursday, July 21, 2011, from 8 a.m. to 4:30 p.m. EDT. Please refer to these public meetings listed on http://primis.phmsa.dot.gov/meetings/for more information.

ADDRESSES: These public meetings will be held at The Westin Arlington Gateway, 801 North Glebe Road, Arlington, VA 22203, Phone: 703-717-6200, Fax: 703-717-6260 or http://www.westinarlingtongateway.com/. Please contact the Westin to reserve a room using “USDOT/PHMSA” for the room block name at the rate of $157/night. This room rate is available for Tuesday night July 19 and Wednesday night July 20 until the reserved rooms at this rate are taken. A very limited number of rooms are available at this rate on July 21 until they are taken. Please also contact the Westin for information on facilities or services for individuals with disabilities, or to request special assistance during these public meetings.

Comments may be submitted to the docket in the following ways:

E-Gov Web Site: http://www.regulations.gov. This site allows the public to enter comments on any Federal Register notice issued by any agency.

Fax: 1-202-493-2251.

Mail: Docket Management Facility; U.S. Department of Transportation, 1200 New Jersey Avenue, SE., West Building, Room W12-140, Washington, DC 20590-0001.

Hand Delivery: Room W12-140 on the ground level of the U.S. Department of Transportation, West Building, 1200 New Jersey Avenue, SE., Washington, DC, between 9 a.m. and 5 p.m., Monday through Friday, except Federal holidays.

Instructions: Identify the docket number PHMSA-2011-0127 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000 (65 FR 19477) or view the Privacy Notice at http://www.regulations.gov before submitting any such comments.

Docket: For access to the docket or to read background documents or comments, go to http://www.regulations.gov at any time or to Room W12-140 on the ground level of the U.S. Department of Transportation, West Building, 1200 New Jersey Avenue, SE., Washington, DC, between 9 a.m. and 5 p.m., Monday through Friday, except Federal holidays.

If you wish to receive confirmation of receipt of your written comments, please include a self-addressed, stamped postcard with the following statement: “Comments on PHMSA-2011-0127.” The Docket Clerk will date-stamp the postcard prior to returning it to you via the U.S. mail. Please note that due to delays in the delivery of U.S. mail to Federal offices in Washington, DC, we recommend that persons consider an alternative method (Internet, fax, or professional delivery service) of submitting comments to the docket and ensuring their timely receipt at DOT.

Information on Services for Individuals With Disabilities

For information on facilities or services for individuals with disabilities, or to seek special assistance at the meeting, please contact Robert Smith at 919-238-4759 by July 1, 2011.

FOR FURTHER INFORMATION CONTACT: Robert Smith by e-mail at robert.w.smith@dot.gov or by phone at 919-238-4759.

SUPPLEMENTARY INFORMATION:

Public Meetings Registration: Please visit http://primis.phmsa.dot.gov/meetings/and click on these public meetings to register.

Preliminary Agenda for the Public Meeting on Managing Challenges With Pipeline Seam Welds

8 a.m. Good Morning/Welcome

8:10 a.m. Panel 1: What is the Nature/Extent of the Issue?

9:40 a.m. Break

9:55 a.m. Panel 2: Identifying/Managing Seam Weld Challenges

11:10 a.m. Presentation: Seam Weld Research Project and Input/Refinement of this Targeted Research

12 p.m. Lunch—On your Own

1:30 p.m. (Concurrent Sessions)

Working Group 1: Identifying Gaps in Risk Assessments

Working Group 2: Identifying Gaps in Technology

Working Group 3: Identifying Gaps with Assessment Methods

4 p.m. Adjournment

Preliminary Agenda for the Public Meeting on Improving Pipeline Risk Assessments and Recordkeeping

8 a.m. Good Morning/Welcome

8:10 a.m. Panel 1: U.S. & Canadian Regulatory Perspective on Risk Assessments

9:30 a.m. Panel 2: Pipeline Operator Perspective on Risk Assessments

Break taken during panel 2

11:30 a.m. Lunch—On your Own

1 p.m. Panel 3: How Should Recordkeeping Gaps Influence Risk Assessments?

2:30 p.m. Break

2:45 p.m. Panel 4: Identifying Interactive Threats and Understanding Options

4:30 p.m. Summary and Adjournment

Webcasting: The public meeting on Managing Challenges with Pipeline Seam Welds will not be webcasted. The public meeting on Improving Pipeline Risk Assessments and Recordkeeping will be webcasted. Please refer to this event listed on http://primis.phmsa.dot.gov/meetings/ for more information.

Issued in Washington, DC, on May 18, 2011.
Jeffrey D. Wiese,
Associate Administrator for Pipeline Safety.

[FR Doc. 2011-12690 Filed 5-23-11; 8:45 am]

BILLING CODE 4910-60-P